DEPARTMENT OF HEALTH AND HUMAN SERVICES

National Biodefense Science Board: Notification of Cancellation of Public Teleconference

AGENCY: Department of Health and Human Services, Office of the Secretary.

ACTION: Notice.

SUMMARY: As stipulated by the Federal Advisory Committee Act, the Department of Health and Human Services (HHS) is hereby giving notice that the National Biodefense Science Board (NBSB) public teleconference meeting scheduled for December 9, 2009 from 12 p.m. to 2 p.m. EST is cancelled. This meeting was announced in the Federal Register of November 17, 2009 (74 FR 59186) and was intended to discuss issues related to Novel Influenza A H1N1.

SUPPLEMENTARY INFORMATION: Pursuant to section 319M of the Public Health Service Act (42 U.S.C. 247d-7f) and section 222 of the Public Health Service Act (42 U.S.C. 217a), the Department of Health and Human Services established the National Biodefense Science Board. The Board shall provide expert advice and guidance to the Secretary on scientific, technical, and other matters of special interest to the Department of Health and Human Services regarding current and future chemical, biological, nuclear, and radiological agents, whether naturally occurring, accidental, or deliberate. The Board may also provide advice and guidance to the Secretary on other matters related to public health emergency preparedness and response. As stipulated by the Federal Advisory Committee Act, the Department of Health and Human Services (HHS) is hereby giving notice that the NBSB public teleconference meeting scheduled for December 9, 2009 from 12 p.m. to 2 p.m. EST is cancelled. This meeting was announced in the Federal Register of November 17, 2009 (74 FRN 59186) and was intended to discuss issues related to Novel Influenza A H1N1.

FOR FURTHER INFORMATION CONTACT: E-mail: NBSB@HHS.GOV.

Dated: November 30, 2009.
Nicole Lurie,
Assistant Secretary for Preparedness and Response.

[FR Doc. E9-29031 Filed 12-4-09; 8:45 am]

BILLING CODE 4150-37-P